DEPARTMENT OF COMMERCE

National Oceanic and Atmospheric Administration

RIN 0648-XF752

New England Fishery Management Council; Public Meeting

AGENCY: National Marine Fisheries Service (NMFS), National Oceanic and Atmospheric Administration (NOAA), Commerce.

ACTION: Notice; public meeting.

SUMMARY: The New England Fishery Management Council (Council) is scheduling a joint public meeting of its Joint Whiting Committee and Advisory Panel on October 30, 2017, to consider actions affecting New England fisheries in the exclusive economic zone (EEZ). Recommendations from this group will be brought to the full Council for formal consideration and action, if appropriate.

DATES: This meeting will be held on Monday, October 30, 2017 at 10 a.m.

ADDRESSES:

Meeting address: The meeting will be held at the Hampton Inn, 2100 Post Road, Warwick, RI 02886; Telephone: (401) 739-8888.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

After hearing analysis and recommendations from the Whiting Plan Development Team, the Committee and Advisory Panel will approve Draft Amendment 22 alternatives that would trigger whiting and red hake possession limit reductions for limited access Category 2 and Incidental Permits when catches exceed Annual Catch Limits, overfishing occurs, or other circumstances. Final approval of the Draft Amendment 22 document is expected at the December 2017 Council meeting. Council staff will report on progress of SSC approval of 2018-20 specifications, the specifications document, the Draft Amendment 22 document, 2018 priorities and other business.

Although non-emergency issues not contained in this agenda may come before this group for discussion, those issues may not be the subject of formal action during the meeting. Action will be restricted to those issues specifically listed in this notice and any issues arising after publication of this notice that require emergency action under section 305(c) of the Magnuson-Stevens Act, provided the public has been notified of the Council's intent to take final action to address the emergency.

Special Accommodations

This meeting is physically accessible to people with disabilities. This meeting will be recorded. Consistent with U.S.C. 1852, a copy of the recording is available upon request. Requests for sign language interpretation or other auxiliary aids should be directed to Thomas A. Nies, Executive Director, at (978) 465-0492, at least 5 days prior to the meeting date.

Authority: 16 U.S.C. 1801 et seq.

Dated: October 11, 2017.
Jeffrey N. Lonergan,
Acting Deputy Director, Office of Sustainable Fisheries, National Marine Fisheries Service.

[FR Doc. 2017-22360 Filed 10-13-17; 8:45 am]

BILLING CODE 3510-22-P